OVERSEAS PRIVATE INVESTMENT CORPORATION

Sunshine Act Meeting Notice

TIME AND DATE: Thursday, June 9, 2016, 2 p.m. (OPEN Portion), 2:15 p.m. (CLOSED Portion).

PLACE: Offices of the Corporation, Twelfth Floor Board Room, 1100 New York Avenue NW., Washington, DC.

STATUS: Meeting OPEN to the Public from 2 p.m. to 2:15 p.m. Closed portion will commence at 2:15 p.m. (approx.)

MATTERS TO BE CONSIDERED: 1. President's Report.

2. Tribute—James Torrey.

3. Approval—Charter of the Risk Committee of the Board.

4. Approval—Amended Charter of the Audit Committee of the Board.

5. Confirmation—Michele Perez.

6. Minutes of the Open Session of the March 17, 2016 Board of Directors Meeting.

FURTHER MATTERS TO BE CONSIDERED (Closed to the Public 2:15 p.m.): 1. Finance Project—Turkey.

2. Finance Project—Turkey.

3. Finance Project—Ukraine.

4. Finance Project—Ukraine.

5. Finance Project—Jordan and Middle East and North Africa.

6. Finance Project—Senegal.

7. Finance Project—Africa.

8. Finance Project—Brazil.

9. Finance Project—Global.

10. Minutes of the Closed Session of the March 17, 2016 Board of Directors Meeting.

11. Reports.

12. Pending Projects.

CONTACT PERSON FOR MORE INFORMATION: Information on the meeting may be obtained from Catherine F. I. Andrade at (202) 336-8768, or via email at Catherine.Andrade@opic.gov.

Dated: May 19, 2016.
Catherine F.I. Andrade,
Corporate Secretary, Overseas Private Investment Corporation.

[FR Doc. 2016-12253 Filed 5-20-16; 11:15 am]

BILLING CODE 3210-01-P